DEPARTMENT OF COMMERCE

Foreign-Trade Zones Board

[Docket 52-2005]

Proposed Foreign-Trade Zone - Lawrence County, Ohio, Application and Public Hearing

An application has been submitted to the Foreign-Trade Zones (FTZ) Board (the Board) by the Lawrence County Port Authority, an Ohio public corporation, to establish a general-purpose foreign-trade zone at a site in Lawrence County, Ohio, adjacent to the Charleston, West Virginia, Customs port of entry. The FTZ application was submitted pursuant to the provisions of the FTZ Act, as amended (19 U.S.C. 81a-81u), and the regulations of the Board (15 CFR Part 400). It was formally filed on October 20, 2005. The applicant is authorized to make the proposal under Ohio Revised Code Section 1743.11.

The proposed zone would be the third general-purpose zone in the Charleston, West Virginia, Customs port of entry area. The existing zones are as follows: FTZ 229, Charleston,West Virginia (Grantee: West Virginia Economic Development Authority, Board Order 954, 02/13/98) and FTZ 264, Washington County, Ohio (Grantee: Southeastern Ohio Port Authority, Board Order 1392, 6/24/05).

The proposed zone consists of one site (422 acres), located in Lawrence County, Ohio. The site is located at the Point Industrial Park, U.S. Route #52 and County Road 1, Lawrence County, Ohio. The site is owned by Lawrence Economic Development Corporation, Biomass Energy LLC and M&M Service, Inc.

The application indicates a need for zone services in the Lawrence County, Ohio, area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on November 17, 2005, at 2 p.m., SouthPoint Community Center, 404 Second Street West, South Point, Ohio.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW, Washington, DC 20005; or

2. Submissions via U.S. Postal Service: Foreign-Trade Zones Board, U.S. Department of Commerce, FCB-4100W, 1401 Constitution Avenue, NW, Washington, DC 20230.

The closing period for their receipt is December 27, 2005. Rebuttal comments in response to material submitted during the foregoing period may be submitted during the subsequent 15-day period (to January 9, 2006).

A copy of the application will be available for public inspection at the Office of the Foreign-Trade Zones Board's Executive Secretary at address No. 1 listed above and the Lawrence Economic Development Corporation, 216 Collins Avenue, South Point, Ohio 45680.

Dated: October 20, 2005.
Dennis Puccinelli,
Executive Secretary.

[FR Doc. 05-21387 Filed 10-25-05; 8:45 am]

BILLING CODE 3510-DS-S